TENNESSEE VALLEY AUTHORITY

Pickwick Reservoir Land Management Plan, Lauderdale and Colbert Counties, AL; Tishomingo County, MS; and Hardin County, TN

AGENCY: Tennessee Valley Authority (TVA).

ACTION: Issuance of record of decision.

SUMMARY: This notice is provided in accordance with the Council on Environmental Quality's regulations (40 CFR 1500 to 1508) and TVA's procedures implementing the National Environmental Policy Act. TVA has updated its 1981 land management plan for 19,238 acres of TVA public land on Pickwick Reservoir in Alabama, Mississippi, and Tennessee. TVA will use the plan to guide land use approvals, private water-use facility permitting, and resource management decisions on Pickwick Reservoir. On September 10, 2002, the TVA Board of Directors decided to adopt the preferred alternative (Alternative B) identified in the Final Environmental Impact Statement (EIS) and Land Management Plan, Pickwick Reservoir. A notice of availability of the final EIS was published in the Federal Register on August 2, 2002. Under the adopted land plan, TVA has allocated undeveloped lands for public recreation and natural resource conservation, and has also been responsive to local requests for use of TVA lands for water access and community development. Of the 19,238 acres of TVA lands on the reservoir which are available for allocation, 16,291 acres would be allocated to natural resource conservation (Zone 4), sensitive resource management (Zone 3), TVA project operations (Zone 2); 1,327 acres would be allocated for developed recreation (Zone 6) uses such as marinas, campgrounds, parks, and boat ramps; 1,085 acres would be allocated for residential lake access, and 534 acres for industrial or commercial uses (Zone 5). Although reserved for conservation purposes, lands in Zones 3 and 4 also lend themselves to dispersed recreation uses.

FOR FURTHER INFORMATION CONTACT: Harold Draper, Senior NEPA Specialist, Environmental Policy and Planning, Tennessee Valley Authority, 400 West Summit Hill Drive, WT 8C, Knoxville, Tennessee 37902—1499; telephone (865) 632-6996 or e-mail hmdraper@tva,gov.

SUPPLEMENTARY INFORMATION: Pickwick Reservoir is a 52.7-mile long reservoir completed in 1938. Although 63,625 acres were acquired for construction of the reservoir, 42,708 are covered by water. Subsequent transfers of land by TVA for economic, industrial, residential, or public recreation development have resulted in a current balance of 19,238 acres of TVA public land above normal summer pool elevation of 414 mean sea level.

TVA first announced its proposal to update its 1981 land management plan in 2001. TVA determined that the development of an EIS would allow a better understanding of the impacts of the alternatives. TVA published in the Federal Register a notice of intent to prepare an EIS on March 26, 2001. Meetings were held to inform the public of TVA's proposal to update the land allocation plan and to solicit input on scoping this proposal. The scoping meetings were held on March 29, 2001, in Lula, Mississippi at the Tishomingo County High School; April 3, 2001, in Memphis, Tennessee at the Adam's Mark Hotel; April 6, 2001, in Pickwick Dam, Tennessee at the Pickwick Landing State Park; and April 12, 2001, in Muscle Shoals, Alabama at the TVA Environmental Research Center Auditorium. These meetings were attended by 203 people. In addition, written comments were invited through a news release, newspaper notices, and a web site notice. During the scoping period, commenters expressed a desire for more environmental protection of the lands of Pickwick Reservoir, and discussed how they valued the scenic beauty and setting of the reservoir. TVA made an effort to identify parcels of land with sensitive resources that should be managed in a manner that ensures the protection of these resources. Further, TVA used the comments received during the scoping process to develop alternatives to be assessed in the draft EIS (DEIS). TVA assessed the impacts of the following alternatives: No action (Alternative A); balanced conservation with limited development (Alternative B); and conservation (Alternative C). A notice of availability (NOA) of the DEIS appeared in the Federal Register on May 3, 2002.

In addition to written materials, additional information on the proposals and other aspects of the DEIS was available to the public in four public meetings held in May 7, 2002, in Muscle Shoals, Alabama at the TVA Environmental Research Center Auditorium; May 14, 2002, in luka, Mississippi at the Tishomingo County High School; May 16, 2002, in Memphis, Tennessee at the Adam's Mark Hotel; and May 21, 2002, in Pickwick Dam, Tennessee at the Pickwick Landing State Park. Approximately 64 comments were received on the DEIS. These comments primarily related to recommendations for proposed uses of TVA land. In the Final EIS (FEIS), TVA selected Alternative B as the preferred alternative. After considering all comments, the Final EIS was completed and distributed to commenting agencies and the public. A NOA for the Final EIS was published in the Federal Register on August 2, 2001.

Alternatives Considered

TVA considered three alternatives, including no action, for allocation of Pickwick Reservoir lands. The action alternatives were characterized as Alternative B, balanced conservation with limited developed recreation and industrial/commercial development, and Alternative C, conservation. Alternative B accommodated use requests and allocation changes for 3 parcels, while Alternative C did not accommodate allocation change requests and instead reserved these three parcels to conservation-oriented uses by allocating the parcels to Zone 4. In response to public comments on the DEIS, TVA selected Alternative B as the preferred alternative for the FEIS.

Under Alternative A, the no action alternative, TVA would not revise the 1981 allocation plan. Proposed land use requests received from external applicants or internal TVA interests would be evaluated for consistency with the 1981 plan. Requested land uses that are consistent would be approved or denied based on a review of potential environmental impacts and other administrative considerations. If the request is not consistent with the designated land use, and TVA staff believe the proposal has merit, then the TVA Board of Directors would be asked to amend the plan and change the allocation.

The 1981 plan used 10 allocation categories to allocate approximately 21,000 acres of TVA public land. Residential shoreline and other shoreline strips were not included in the allocations. Many parcels in the 1981 plan were designated with multiple allocation tags, allowing their consideration for a wide range of uses with a wide range of resulting environmental consequences. TVA estimates that under the existing plan, 31.5 to 55.0 percent of reservoir lands would be used for sensitive resource protection or natural resource management, 2.3 to 13.0 percent would be used for industrial or other developed uses, and 1.9 to 12.8 percent would be used for recreation development. As explained in the FEIS, the above figures are presented as ranges because certain parcels have multiple allocation tags under the 1981 plan.

Under Alternative B, balanced conservation with limited developed recreation and industrial/commercial development, 69.8 percent of project lands would be allocated to sensitive resource protection or natural resource management uses, 2.8 percent would be allocated for developed uses or industrial uses, 6.9 percent for recreation development, and 5.6 percent for residential access.

Under Alternative C, conservation, 70.5 percent of project lands would be allocated to environmental protection and natural resource management uses, 2.4 percent for developed uses or industrial uses, 6.7 percent for recreation development, and 5.5 percent for residential access.

Alternatives B and C differ with respect to the allocations for Parcels 37, 53, and 156. Under Alternative B, TVA would allocated these tracts for developed uses: Parcel 37 (35 acres) for recreation development; Parcel 156 (89 acres) for industrial development; and Parcel 156 (21 acres) for residential development. Under Alternative C, TVA would allocate all three tracts for natural resource conservation (Zone 4).

The EIS considered the environmental consequences of the alternatives on a wide variety of environmental resources. Under any alternative, sensitive resources such as endangered and threatened federal and state-listed species, cultural resources, and wetlands would be protected. Adoption of Alternative B would balance the competing demands of development and conservation. Proposed development activities would have insignificant environmental impacts.

Because the potential effects on historic properties cannot be fully determined prior to implementation of the land plan, TVA will use a phased identification and evaluation process as allowed under 36 CFR 800.4(b)(2) to fulfill its obligations under section 106 of the National Historic Preservation Act in all three states. A programmatic agreement for reservoir land management plans in Alabama has been executed. ACHP, TVA, the Alabama SHPO, the Eastern Band of Cherokee Indians, and the Chickasaw Nation are signatories in the Programmatic Agreement, and the Alabama Indian Affairs Commission is a concurring party.

Response to Comments

Appendix H of the Final EIS contains summaries of and responses to the comments TVA received during the Draft EIS process. TVA received comments from 64 individuals and organizations on the DEIS. The open public process and discussion on a number of issues substantially enhanced TVA's decision making. TVA also received comments on the FEIS from EPA, Alabama Historical Commission, and Tennessee Historical Commission.

As in response to the FEIS, EPA continues to prefer Alternative C or a modification thereof over TVA Preferred Alternative B. EPA recommends if Alternative B was to be selected by TVA, that there be a careful balance between development and the environment, such that development in Zones 5 and 6 is consistent with state and federal environmental regulations and that the current quality of the environment is maintained in conservation zones 3 and 4. EPA also looks to TVA to be selective in the type of development allowed in order to minimize/mitigate potential environmental impacts on Pickwick Reservoir. Further, EPA encourages TVA to be selective in the type of development allowed in order to minimize/mitigate potential environmental impacts on Pickwick Reservoir. Further, EPA encourages TVA to not only directly manage its reservoir shorelands through its updated land management plans and its Shoreline Management Initiative (SMI) Policy, but also to increase its stakeholder activities within the entire watershed community for the overall management of Pickwick and other reservoirs. It is also recommended by EPA that in future, TVA reservoir management EISs and Records of Decision (RODs), protection activities in the greater watershed be disclosed, including progress toward a stakeholder watershed protection plan for the reservoir being considered.

In cognizance of EPA's comments, TVA will continue to emphasize water quality considerations in its land use and section 26a decision making processes for facilities on Pickwick Reservoir. As to the need to mitigate potential environmental impacts, Alternative B is designed such that seventy percent of the TVA public land is allocated to Zones 3 and 4, whereas only 7.9 percent is allocated to Zones 5 and 6. Further, under Alternative B, the amount of TVA public land allocated to Zones 5 and 6 has been reduced by 3,095 acres as compared to Alternative A, the no action alternative. All land use and 26a applicants are required to obtain the necessary federal and state permits to operate their facilities. Under Alternative B, TVA has attempted to accommodate only three development proposals consisting of 145 acres out of 19,238 acres. These proposals are of limited area and shoreline length. As to Parcel 53, the proposed industrial development will occur on backlying lands, and the request to TVA will be limited to corridors for water access. The site-specific impacts of the proposed industrial development tract would be appropriately mitigated through measures identified in the NEPA reviews associated with tract specific requests.

EPA's comment encouraging TVA to increase its stakeholder activities within the entire watershed community for the overall management of Pickwick and other reservoirs is well taken. Water quality is a major consideration in the management of TVA reservoirs. In addition to its efforts to control pollutants via its shoreline and land use, TVA currently has more than 50 watershed water quality initiatives underway across the Valley. Many of these are directly focused on impacts of nutrients on reservoir water quality. These initiatives are undertaken in large part as a response to monitored conditions such as chlorophyll levels. Efforts are targeted on reservoirs and watersheds where the needs are most critical and where there is a reasonable likelihood of success. Furthermore, efforts are focused on identifying and controlling significant sources of pollutants within the watershed where increased control is likely to produce measurable improvements. Additionally, TVA plays a major role as stakeholder in overall watershed management through its participation in numerous local and regional organizations focusing on watershed and water quality issues. Our active involvement in stakeholder driven initiatives is a hallmark of TVA's resource stewardship program. TVA has provided data and technical assistance to States for their use in development of reservoir water quality standards. Specifically, we have provided data to ADEM for its consideration of chlorophyll standards for Pickwick Reservoir. While water quality standards development are a State and EPA function, TVA provides the technical support necessary for development of standards to protect water quality. TVA continues to monitor water quality in its reservoirs and steams and systematically uses these data to target its management efforts. The importance and value of water quality monitoring is clearly understood by TVA.

In other agency comments, the Tennessee Historical Commission (THC) concurred that phased compliance is an appropriate strategy, and requested that TVA submit all historic property survey reports to the office for review and comment. In accordance with standard section 106 of the National Historic Preservation Act, TVA will provide this information to the THC for all properties in Tennessee subject to land disturbance activity. The Alabama Historical Commission agreed with Alternative B provided that a phase II archaeological investigation be conducted for every site potentially eligible for National Register of Historic Places that could be affected by land disturbance activities proposed in the future. TVA will conduct archaeological and historic structure surveys to identify historic properties, and will submit phase II proposals to the Alabama Historical Commission for approval prior to testing for projects in Alabama.

Decision

The TVA Board decided on September 10, 2002, to adopt the Pickwick Reservoir Land Management Plan as described in Alternative B. TVA believes that Alternative B not only responds to community development and recreational development needs on Pickwick Reservoir, but also recognizes and preserves the aesthetic and sensitive resources which make the reservoir unique. Alternative B sets aside parcels containing sensitive resources and habitats in the sensitive resource protection and natural resource conservation categories. For lands where TVA proposes to consider development proposals, Alternative B adopt commitments that would further minimize the potential for adverse impacts to the environment. These commitments are listed below, under Environmental Commitments.

Environmentally Preferable Alternative

Out of the 19,238 planned acres considered under Alternatives B and C, less than one percent (145 acres) are considered for development purposes under Alternative B. Potential adverse impacts can be substantially avoided or minimized through mitigation measures. TVA has therefore concluded that between the two action alternatives (Alternatives B and C), there is no clear environmentally preferable alternative for the Pickwick Reservoir Land Management Plan. Both B and C are environmentally preferable as compared to the no action alternative (Alternative A). TVA believes that Alternative B helps to meet the multiple objectives of the Pickwick project, and would result in substantially better environmental protection than previous shoreline development practices.

Environmental Commitments

The land plan envisioned in Alternative B advances TVA's commitment to resource stewardship and habitat protection through strong conservation approaches. Environmental protection measures are built into the formulation of Alternative B since the approximately 70 percent of the land is allocated to conservation uses (Zones 3 and 4). Further, the retention by TVA of fee ownership of Zones 5 and 7 lands would ensure appropriate buffers between the developed land and the water. In addition, TVA is adopting the following measures to minimize environmental impacts:

• All soil-disturbing activities, such as dredging, shoreline excavations, etc., on Parcels 26, 36, 41, 61, 66, 67, and 68 would be conducted in a manner to avoid impacts to cultural resources.

• The construction of water use facilities and shorelines alterations within the marked limits of the safety landings and harbors would be prohibited.

• Requests for water use facilities on shoreline immediately upstream and downstream of the safety landings and harbors would continue to be reviewed to ensure that barge tows would have sufficient room to maneuver in and out of the safety landings and harbors without the risk of damaging private property.

• Because caves are extremely fragile and biologically significant, TVA has placed and would continue to maintain protective buffer zones around each of the known caves on TVA public land on Pickwick Reservoir.

• Wetlands on Parcel 37 would be mitigated by avoiding wetlands areas, including small upland buffers.

• Corridors for water access across Parcel 53 would be designed to avoid impacts to terrestrial habitat and wetlands.

• Requests for the alteration or further development of this parcel would need to include BMPs and maintenance of a 50-foot SMZ to reduce potential impacts.

• Requests for the alteration or development of Parcel 156 would need to include mitigation measures, such as vegetation management plans, use of architecturally compatible styles/colors, and height restrictions to maintain the scenic attractiveness without adversely impacting the scene integrity.

With the implementation of the above environmental protection measures, TVA has determined that adverse environmental impacts of future development proposals on the reservoir would be significantly reduced. These protective measures represent all of the practicable measures to avoid or minimize environmental harm associated with the alternative adopted by the TVA Board.

As TVA implements the Pickwick Reservoir Land Management Plan, the agency will continue to work with all affected interests to promote environmentally sound stewardship of public lands.

Dated: January 10, 2003.
Kathryn J. Jackson,
Executive Vice President, Rivers System Operations & Environment.

[FR Doc. 03-1697 Filed 1-24-03; 8:45 am]

BILLING CODE 8120-08-M